DEPARTMENT OF ENERGY

Federal Energy Regulatory Commission

[Docket No. ER02-2418-001, et al.]

Northeast Utilities Service Company, et al.; Electric Rate and Corporate Regulation Filings

September 30, 2002.

The following filings have been made with the Commission. The filings are listed in ascending order within each docket classification.

1. Northeast Utilities Service Company

[Docket No. ER02-2418-001]

Take notice that on September 26, 2002, Northeast Utilities Service Company (NUSCO) submitted a correction to the rate schedule with respect to The Connecticut Light and Power Company (CL&P) which was correctly identified in the transmittal letter, but not correctly identified on the top left of each page of the composite copies included as Attachment 2 to the filing. The CL&P rate schedule designation should read “CL&P First Revised FERC Electric Rate Schedule No. 492.”

Comment Date: October 17, 2002.

2. Reliant Energy Mid-Atlantic Power Holdings, LLC

[Docket No. ER02-2600-000]

Take notice that on September 25, 2002 Reliant Energy Mid-Atlantic Power Holdings, LLC (REMPH) filed notice of the cancellation of its FERC Electric Rate Schedule No. 1 as it applies to Units 1 and 2 of REMPH's Warren Station only. REMPH states that the cancellation results from the decommissioning of the units at the Warren Station and will be effective on September 30, 2002.

Comment Date: October 16, 2002.

3. American Atlas #1, Ltd., L.L.L.P.

[Docket No. ER02-2601-000]

Take notice that on September 26, 2002, American Atlas #1, Ltd., L.L.L.P. (American Atlas), tendered for filing a Notice of Cancellation of Rate Schedule respecting American Atlas Electric Tariff No. 1, which became effective June 1, 1999, in Docket No. ER99-3086-000. American Atlas requests that the cancellation become effective November 25, 2002.

Comment Date: October 17, 2002.

4. Southern California Edison Company

[Docket No. ER02-2602-000]

Take notice that on September 26, 2002, Southern California Edison Company (ASCE) tendered for filing the Amended and Restated Radial Lines Agreement (Agreement) between SCE and Reliant Energy Ormond Beach, L.L.C.

The Agreement serves to show revisions for replacement of Capacitance Coupled Voltage Transformers that are needed for SCE to operate and maintain the radial lines, and to conform to the requirements of the Commission's Order No. 614.

SCE respectfully requests that the Agreement become effective on September 27, 2002. Copies of this filing were served upon the Public Utilities Commission of the State of California and Reliant Energy Ormond Beach, L.L.C.

Comment Date: October 17, 2002.

5. MidAmerican Energy Company

[Docket No. ER02-2603-000]

Take notice that on September 26, 2002, MidAmerican Energy Company (MidAmerican), filed with the Commission a Generation Interconnection Contract between MidAmerican, as transmission and distribution delivery services provider, and MidAmerican, as wholesale merchant, which incorporates the revisions as agreed to in the First Amendment to Generation Interconnection Contract, dated May 1, 2002 (Revised Contract).

MidAmerican requests an effective date of May 1, 2002, for the Revised Contract and seeks a waiver of the Commission's notice requirement. MidAmerican has served a copy of the filing on the Iowa Utilities Board, the Illinois Commerce Commission and the South Dakota Public Utilities Commission.

Comment Date: October 17, 2002.

6. Keystone Energy Group, Inc.

[Docket No. ER02-2605-000]

Take notice that on September 26, 2002, Keystone Energy Group, Inc. (Keystone) petitioned the Commission for acceptance of Keystone Rate schedule FERC No. 1; the granting of certain blanket approvals, including the authority to sell electricity at market based rates; and waiver of certain Commission regulations.

Keystone intends to engage in wholesale electric power and energy purchases and sales as a marketer. Keystone is not in the business of generating or transmitting electric power.

Comment Date: October 17, 2002.

7. Madison Gas and Electric Company

[Docket No. ER02-2606-000]

Take notice that on September 26, 2002, Madison Gas and Electric Company (MGE) tendered for filing a service agreement under MGE's Market-Based Power Sales Tariff with Sempra Energy Trading Corp.

MGE requests the agreement be effective on the date it was filed with the Federal Energy Regulatory Commission.

Comment Date: October 17, 2002.

8. Quonset Point Cogen, L.P.

[Docket No. ER02-2607-000]

Take notice that on September 27, 2002, Quonset Point Cogen, L.P. (Quonset) tendered for filing with the Federal Energy Regulatory Commission (Commission) an application for an order accepting its FERC Electric Rate Schedule No. 1, granting certain blanket approvals, including the authority to sell electricity at market-base rates, and waiving certain regulations of the Commission. Quonset requests expedited Commission consideration and waiver of the prior notice requirements so that its Electric Rate Schedule No. 1 can become effective on October 15, 2002.

Comment Date: October 18, 2002.

9. Kentucky Utilities Company

[Docket No. ER02-2608-000]

Take notice that on September 27, 2002, Kentucky Utilities Company (KU) filed an amendment to its Interchange Agreement with the City of Paris, Kentucky, to incorporate certain changes required in connection with KU's transfer of certain distribution facilities to the City of Paris. The Amendment does not change any rates or charges under the Interchange Agreement as previously approved and on file with this Commission.

Comment Date: October 18, 2002.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-25646 Filed 10-8-02; 8:45 am]

BILLING CODE 6717-01-P